DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 13, 2008.

Interested persons are invited to submit written comments regarding the subject matter of the investigations to the Director, Division of Trade Adjustment Assistance, at the address shown below, not later than November 13, 2008. The petitions filed in this case are available for inspection at the Office of the Director, Division of Trade Adjustment Assistance, Employment and Training Administration, U.S. Department of Labor, Room C-5311, 200 Constitution Avenue, NW., Washington, DC 20210.

Signed at Washington, DC, this 23rd day of October 2008.
Erin Fitzgerald,
Director, Division of Trade Adjustment Assistance.

APPENDIX
TAA petitions instituted between 10/14/08 and 10/17/08
TA-W | Subject firm (petitioners) | Location | Date of institution | Date of petition
64210 | JDS Uniphase (Comp) | Louisville, CO | 10/14/08 | 10/13/08
64211 | Tarkett Alabama, Inc. (Comp) | Florence, AL | 10/14/08 | 10/10/08
64212 | BAE Systems-Product Group (Comp) | Central Lake, MI | 10/14/08 | 10/01/08
64213 | Stanley Fastening Systems, L.P. (Comp) | East Greenwich, RI | 10/14/08 | 10/10/08
64214 | KDH Defense Systems (Wkrs) | Carmichaels, PA | 10/14/08 | 10/10/08
64215 | Hewlett-Packard Imaging Printing Group (Comp) | San Diego, CA | 10/14/08 | 10/09/08
64216 | Volvo Penta Marine Products LLC (Wkrs) | Lexington, TN | 10/14/08 | 10/09/08
64217 | ICG Castings, Inc (State) | Dowagiac, MI | 10/14/08 | 09/15/08
64218 | Trilogy Finishing, Inc. (State) | Detroit, MI | 10/14/08 | 10/03/08
64219 | GKN Sintered Metals (Wkrs) | Emporium, PA | 10/14/08 | 10/03/08
64220 | Oddi Atlantic LLC (State) | Princess Ann, MD | 10/15/08 | 10/14/08
64221 | Hella Electronics Corporation (State) | Flora, IL | 10/15/08 | 10/13/08
64222 | TRW Automotive U.S. LLC (State) | Marshall, IL | 10/15/08 | 10/13/08
64223 | Super Brands LLC (Wkrs) | Henderson, NV | 10/15/08 | 10/14/08
64224 | Ryder Integrated Services (Comp) | Novi, MI | 10/15/08 | 10/10/08
64225 | Rheem Manufacturing (Wkrs) | Milledgeville, GA | 10/15/08 | 10/14/08
64226 | Diversified Machine, Inc. (Comp) | Canton, MI | 10/15/08 | 10/08/08
64227 | Federal Mogul (Wkrs) | South Bend, IN | 10/15/08 | 10/14/08
64228 | Rockwell Collins, Inc. (State) | Miami, FL | 10/15/08 | 10/14/08
64229 | Hanesbrand, Inc. (Comp) | Forest City, NC | 10/16/08 | 10/05/08
64230 | Hooker Furniture Company (Wkrs) | Martinsville, VA | 10/16/08 | 10/13/08
64231 | HAAS TCM (Wkrs) | West Chester, PA | 10/16/08 | 10/01/08
64232 | Sierra Pine Medite Division (Wkrs) | Medford, OR | 10/16/08 | 10/15/08
64233 | Sun Mountain Lumber, Inc. (Comp) | Deer Lodge, MT | 10/16/08 | 10/14/08
64234 | Lumax Industries, Inc. (Wkrs) | Altoona, PA | 10/16/08 | 10/15/08
64235 | DynAmerica Manufacturing (Wkrs) | Muncie, IN | 10/16/08 | 10/10/08
64236 | Shop Vac Endicott (State) | Endicott, NY | 10/17/08 | 10/16/08
64237 | Cone Denim White Oak Plant (Comp) | Greensboro, NC | 10/17/08 | 10/15/08
64238 | Plum Creek MDF, Inc. (Comp) | Columbia Falls, MT | 10/17/08 | 10/16/08
64239 | Diversified Textile Machinery Corporation (Comp) | Kings Mountain, NC | 10/17/08 | 10/16/08
64240 | Labinal, Inc. (Comp) | Pryor, OK | 10/17/08 | 10/16/08
64241 | The Baxter Corporation (Comp) | Franklin Lakes, NJ | 10/17/08 | 10/16/08
64242 | Emerald Performance Materials (Wkrs) | Kalama, WA | 10/17/08 | 10/14/08
64243 | ClearPlas LLC (Comp) | Leominster, MA | 10/17/08 | 10/13/08
64244 | Nautilus, Inc. (Comp) | Tulsa, OK | 10/17/08 | 10/15/08
64245 | Delphi Energy and Chassis Needmore Rd. and Dayton Plant 3 (UAW) | Dayton, OH | 10/17/08 | 10/15/08

[FR Doc. E8-26046 Filed 10-31-08; 8:45 am]

BILLING CODE 4510-FN-P